DEPARTMENT OF THE INTERIOR

National Park Service

[NPS-WASO-NAGPRA-NPS0031764; PPWOCRADN0-PCU00RP14.R50000]

Notice of Intent To Repatriate Cultural Items: Gilcrease Museum, Tulsa, OK

AGENCY: National Park Service, Interior.

ACTION: Notice.

SUMMARY: The Gilcrease Museum, in consultation with the appropriate Indian Tribes or Native Hawaiian organizations, has determined that the cultural items listed in this notice meet the definitions of sacred objects and objects of cultural patrimony. Lineal descendants or representatives of any Indian Tribe or Native Hawaiian organization not identified in this notice that wish to claim these cultural items should submit a written request to the Gilcrease Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Gilcrease Museum at the address in this notice by May 24, 2021.

ADDRESSES: Laura Bryant, Gilcrease Museum, 1400 N Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate cultural items under the control of the Gilcrease Museum, Tulsa, OK, that meet the definitions of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the early 1900s, 11 cultural items were removed from the Winnebago Tribe of Nebraska community. Emil Lenders, a German-American artist, traveled throughout the mid- and western United States in the early 1900s and collected many items from Indigenous communities and from Wild West shows. The Thomas Gilcrease Foundation purchased Emil Lenders' collection of approximately 600 items in 1950, and it was transferred to the City of Tulsa in 1955. The 11 sacred objects and objects of cultural patrimony are 10 decorated otter bags (accession numbers 84.694, 84.701, 84.702, 84.703, 84.704, 84.705, 84.706, 84.707, 84.709, 85.55) and one war bundle (accession numbers 84.1752a-m, 73.244, 82.44).

Likely around the turn of the century, two cultural items were removed from the Winnebago Tribe of Nebraska community. An unknown person acquired these items, which were likely purchased by the Thomas Gilcrease Foundation in the mid-20th century. The items were transferred to the City of Tulsa in 1955. The two sacred objects and objects of cultural patrimony are decorated otter bags (accession numbers 84.695 and 84.708).

All of these cultural items were determined to be culturally affiliated with the Winnebago Tribe of Nebraska during consultation with the Tribe. The documentation and records at the museum identify these items as Winnebago. These items are still used in current traditional ceremonies and are communally owned and cannot be legally separated from the originating community by an individual.

Determinations Made by the Gilcrease Museum

Officials of the Gilcrease Museum have determined that:

• Pursuant to 25 U.S.C. 3001(3)(C), the 13 cultural items described above are specific ceremonial objects needed by traditional Native American religious leaders for the practice of traditional Native American religions by their present-day adherents.

• Pursuant to 25 U.S.C. 3001(3)(D), the 13 cultural items described above have ongoing historical, traditional, or cultural importance central to the Native American group or culture itself, rather than property owned by an individual.

• Pursuant to 25 U.S.C. 3001(2), there is a relationship of shared group identity that can be reasonably traced between the sacred objects, and objects of cultural patrimony and the Winnebago Tribe of Nebraska.

Additional Requestors and Disposition

Lineal descendants or representatives of any Indian Tribe or Native Hawaiian organization not identified in this notice that wish to claim these cultural items should submit a written request with information in support of the claim to Laura Bryant, Gilcrease Museum, 1400 N Gilcrease Museum Road, Tulsa, OK 74127, telephone (918) 596-2747, email laura-bryant@utulsa.edu, by May 24, 2021. After that date, if no additional claimants have come forward, transfer of control of the sacred objects and objects of cultural patrimony to the Winnebago Tribe of Nebraska may proceed.

The Gilcrease Museum is responsible for notifying the Winnebago Tribe of Nebraska that this notice has been published.

Dated: April 15, 2021.
Melanie O'Brien,
Manager, National NAGPRA Program.

[FR Doc. 2021-08401 Filed 4-21-21; 8:45 am]

BILLING CODE 4312-52-P